DEPARTMENT OF JUSTICE

Notice of Lodging of Consent Decree Pursuant to The Comprehensive Environmental Response Compensation and Liability Act (“CERCLA”)

Notice is hereby given that a proposed consent decree in United States v. Agway Inc., et al. Civ. No. 3:01cv0637 NAM/GLS, was lodged on May 1, 2001 with the United States District Court for the Northern District of New York. The Consent Decree concerns hazardous waste contamination at the Tr-Cities Barrel Superfund Site (the “Site”), located in the Town of Fenton, Broome County, New York. The Consent Decree would resolve the liability for reimbursement of response costs incurred by the United States in connection with the Site as to forty-three potentially responsible parties against whom the United States filed a complaint on behalf of the United States Environmental Protection Agency (“EPA”). The Consent Decree also requires the settling defendants to perform the Remedial Design/Remedial Action (“RD/RA”) as set forth in the Record of Decision issued by EPA on March 31, 2000.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States v. Agway Inc., et al., DOJ Ref. #90-11-3-1514/1.

The proposed consent decree may be examined at the office of the United States Attorney for the District of New Jersey, 231 Foley U.S. Courthouse, 445 Broadway, Albany, NY 12207 (contact Assistant United States Attorney James Woods); and the Region II Office of the Environmental Protection Agency, 290 Broadway, New York, New York 10007-1866 (contact Assistant Regional Counsel, Michael Mintzer). A copy of the proposed consent decree may be obtained by mail from the Consent Decree Library, P.O. Box 7611, Washington, DC 20044-7611. In requesting a copy please refer to the referenced case and enclose a check in the amount of $29.00 (25 cents per page reproduction costs) for the Consent Decree without Appendices, or in the amount of $61.50 for the Consent Decree with all Appendices, payable to the Consent Decree Library.

Ronald Gluck,
Assistant Section Chief, Environmental Enforcement Section, Environmental and Natural Resources Division.

[FR Doc. 01-13027 Filed 5-22-01; 8:45 am]

BILLING CODE 4410-15-M